DEPARTMENT OF HOMELAND SECURITY

Coast Guard

33 CFR Part 165

[Docket No. USCG-2024-0572]

Safety Zones; Annual Events in the Captain of the Port Eastern Great Lakes Zone

AGENCY: Coast Guard, DHS.

ACTION: Notification of enforcement of regulation.

SUMMARY: The Coast Guard will enforce multiple safety zones located in federal regulations for recurring marine events taking place in August and September of 2024. This action is necessary and intended for the safety of life and property on navigable waters during these events. During the enforcement periods, no person or vessel may enter the respective safety zone without the permission of the Captain of the Port Eastern Great Lakes or a designated representative.

DATES: The regulations listed in 33 CFR 165.939 Table 165.939, will be enforced for the following events during the dates and times indicated in the SUPPLEMENTARY INFORMATION SECTION.

FOR FURTHER INFORMATION CONTACT: If you have questions about this notice of enforcement, call or email MST1 Cody Mayrer, Waterways Management Division, U.S. Coast Guard Marine Safety Unit Cleveland; telephone 216-937-6007, email D09-SMB-MSUCLEVELAND-WWM@uscg.mil.

SUPPLEMENTARY INFORMATION: The Coast Guard will enforce multiple safety zones for annual events in the Captain of the Port Eastern Great Lakes Zone listed in 33 CFR 165.939, Table 165.939 for events occurring in the months of August and September as listed in the Dates section above. Pursuant to 33 CFR 165.23, entry into, transiting, or anchoring within these safety zones during an enforcement period is prohibited unless authorized by the Captain of the Port Eastern Great Lakes or his designated representative. Those seeking permission to enter the safety zone may request permission from the Captain of Port Eastern Great Lakes via channel 16, VHF-FM. Vessels and persons granted permission to enter the safety zone shall obey the directions of the Captain of the Port Eastern Great Lakes or his designated representative. While within a safety zone, all vessels shall operate at the minimum speed necessary to maintain a safe course.

The safety are listed in 33 CFR 165,939 in Table 165.939. The specific zones and the Coast Guard plans to enforce are:

(c)(1) Whiskey Island Paddlefest—from 7 a.m. through 1:30 p.m. on August 17, 2024, in Cleveland Harbor, Lake Erie.

(c)(2) D-Day Conneaut—from 12:30 p.m. through 5:30 p.m. on August 15 through August 17, 2024, in U.S. waters of Lake Erie adjacent to Conneaut Township Park, Ohio.

(d)(1) Madison Light Up the Park (Madison Township Light Up the Park)—from 9 p.m. through 10:30 p.m. on August 10, 2024, in U.S. waters of Lake Erie adjacent to Madison Township, Ohio.

(d)(2) Cleveland National Air Show—from 11 a.m. through 5:30 p.m. on August 29, 2024; from 7 a.m. through 5:30 p.m. on August 30, 2024; and from 7:30 a.m. through 6:30 p.m. August 31 through September 2, 2024, in Cleveland Harbor, Lake Erie.

This notice of enforcement is issued under authority of 33 CFR 165.939 and 5 U.S.C. 552 (a). In addition to this notice of enforcement in the Federal Register, the Coast Guard will provide the maritime community with advance notification of this enforcement period via Broadcast Notice to Mariners or Local Notice to Mariners. If the Captain of the Port Eastern Great Lakes determines that the safety zone need not be enforced for the full duration stated in this notice, he may use a Broadcast Notice to Mariners to grant general permission to enter the respective safety zone. This notification is being issued by the Coast Guard Sector Eastern Great Lakes Prevention Department Head at the direction of the Captain of the Port.

Dated: June 26, 2024.
J.B. Bybee,
Commander, U.S. Coast Guard, Sector Eastern Great Lakes Prevention Department Head.

[FR Doc. 2024-14432 Filed 7-1-24; 8:45 am]

BILLING CODE 9110-04-P